DEPARTMENT OF COMMERCE

International Trade Administration

[A-437-601 (TRBs/Hungary);et al.)]

Revocation of Antidumping Duty Orders on Certain Bearings From Hungary, Japan, Romania, Sweden, France, Germany, Italy, and the United Kingdom

AGENCY: Import Administration, International Trade Administration, Department of Commerce.

ACTION: Notice of revocation of antidumping duty orders on certain bearings from Hungary, Japan, Romania, Sweden, France, Germany, Italy, and the United Kingdom.

SUMMARY: On November 4, 1999, the Department of Commerce (“the Department”), pursuant to sections 751(c) and 752 of the Tariff Act of 1930, as amended (“the Act”), determined that revocation of the following antidumping duty orders on certain bearings from Hungary, Japan, Romania, Sweden, France, Germany, Italy, and the United Kingdom would be likely to lead to continuation or recurrence of dumping:

Product | Country | ITA case no. | FR cite
Tapered roller bearings | Hungary | A-437-601 | 64 FR 60272
Tapered roller bearings (4 inches and under) | Japan | A-588-054 | 64 FR 60317
Tapered roller bearings (Over 4 inches) | Japan | A-588-604 | 64 FR 60266
Tapered roller bearings | Romania | A-485-602 | 64 FR 60269
Ball bearings | Romania | A-485-801 | 64 FR 60313
Ball bearings | Sweden | A-401-801 | 64 FR 60282
Cylindrical roller bearings | France | A-427-801 | 64 FR 60321
Cylindrical roller bearings | Germany | A-428-801 | 64 FR 60309
Cylindrical roller bearings | Italy | A-475-801 | 64 FR 60291
Cylindrical roller bearings | Japan | A-588-804 | 64 FR 60275
Cylindrical roller bearings | Sweden | A-401-801 | 64 FR 60321
Cylindrical roller bearings | United Kingdom | A-412-801 | 64 FR 60326
Spherical plain bearings | Germany | A-428-801 | 64 FR 60309
Spherical plain bearings | Japan | A-588-804 | 64 FR 60275

On June 28, 2000, the International Trade Commission (“the Commission”), pursuant to section 751(c) of the Act, determined that revocation of the above antidumping duty orders on certain bearings from Hungary, Japan, Romania, Sweden, France, Germany, Italy, and the United Kingdom would not be likely to lead to continuation or recurrence of material injury to an industry in the United States within a reasonably foreseeable time (65 FR 39925). Therefore, pursuant to 19 CFR 351.222(i)(1), the Department is publishing notice of the revocation of the antidumping duty orders on certain bearings from Hungary, Japan, Romania, Sweden, France, Germany, Italy, and the United Kingdom.

Effective Date: January 1, 2000.

FOR FURTHER INFORMATION CONTACT: Kathryn B. McCormick or James Maeder, Office of Policy for Import Administration, International Trade Administration, U.S. Department of Commerce, 14th Street and Constitution Ave., NW., Washington, DC 20230; telephone: (202) 482-1930 or (202) 482-3330, respectively.

SUPPLEMENTARY INFORMATION:

Background

On April 1, 1999, the Department initiated, and the Commission instituted, sunset reviews (64 FR 15727 and 64 FR 15783, respectively) of the antidumping duty orders on certain bearings from Hungary, Japan, Romania, Sweden, France, Germany, Italy, and the United Kingdom. As a result of its reviews, the Department found that revocation of the antidumping duty orders would likely lead to continuation or recurrence of dumping, and notified the Commission of the magnitude of the margins were the orders revoked. (See list below.)

On June 28, 2000, the Commission determined, pursuant to section 751(c) of the Act, that revocation of the antidumping duty orders on certain bearings from Hungary, Japan, Romania, Sweden, France, Germany, Italy, and the United Kingdom would not be likely to lead to continuation or recurrence of material injury to an industry in the United States within a reasonably foreseeable time (see Certain Bearings form China, France, Germany, Hungary, Italy, Japan, Romania, Singapore, Sweden, and the United Kingdom, 65 FR 39925, and USITC Publication 3309 (June 2000), Investigation Nos. AA-1921-143, 731-TA-341, 731-TA-343-345, 731-TA-391-397, and 731-TA-399 (Review)).

Scope of the Orders

These orders cover shipments of certain bearings from Hungary, Japan, Romania, Sweden, France, Germany, Italy, and the United Kingdom as described in the Appendix.

Determination

As a result of the determinations by the Commission that revocation of the antidumping duty orders would not be likely to lead to continuation or recurrence of dumping and material injury to an industry in the United States, pursuant to section 751(d)(2) of the Act, the Department hereby orders the revocation of the antidumping duty orders on certain bearings from Hungary, Japan, Romania, Sweden, France, Germany, Italy, and the United Kingdom. The Department will instruct the Customs Service to discontinue suspension of liquidation and collection of cash deposits on entries of subject merchandise entered or withdrawn from warehouse on or after January 1, 2000 (the effective date). The Department will complete any pending administrative reviews of these orders and will conduct administrative reviews of subject merchandise entered prior to the effective date of revocation in response to appropriately filed requests for review.

Dated: July 5, 2000.
Troy H. Cribb,
Acting Assistant Secretary for Import Administration.

Appendix

A. Description of the Merchandise

1. Tapered Roller Bearings (“TRBs”)

a. Hungary: The products subject to this order are shipments of TRBs and parts thereof, finished and unfinished, from Hungary. This merchandise is currently classifiable under the following item numbers of the Harmonized Tariff Schedule (“HTS”) of the United States: 8482.00.10, 8482.20.00,8482.20.00.30, 8482.20.00.40, 8482.20.00.50, 8482.20.00.60, 8482.20.00.70, 8482.20.00.80, 8483.20.40.80, 8483.20.80.80, 8483.30.80.20, 8482.91.00.50, 8482.99.15.00, 8482.99.15.40, 8482.99.15.80, 8708.99.80.15, and 8708.99.80.80. The HTS numbers are provided for convenience and customs purposes. The written description remains dispositive.

b. Japan (four inches or less): Imports covered by the A-588-054 findings are sales or entries of TRBs, four inches or less in outside diameter when assembled, including inner race or cone assemblies and outer races or cups, sold either as a unit or separately. This merchandise is classified under HTS numbers 8482.20.00 and 8482.99.30. The HTS item numbers listed above are provided for convenience and customs purposes. The written descriptions remain dispositive.

c. Japan (over four inches): Imports covered by the A-588-604 order include TRBs and parts thereof, finished and unfinished, which are flange, take-up cartridge, and hanger units incorporating TRBs, and tapered roller housings (except pillow blocks) incorporating tapered rollers, with or without spindles, whether or not for automotive use. Products subject to the A-588-054 findings are not included within the scope of this order, except for those manufactured by NTN Corporation. This merchandise is currently classifiable under HTS item numbers 8482.99.30, 8483.20.40, 8482.20.20, 8483.20.80, 8482.91.00, 8483.30.80, 8483.90.20, 8483.90.30, and 8483.90.60. In addition, in accordance with our February 2, 1995, final scope determination regarding Koyo Seiko's rough forgings, Koyo's rough forgings are also included within the scope of this order. The HTS item numbers listed above for the A-588-604 order are provided for convenience and customs purposes. The written descriptions remain dispositive.

d. Romania: The products subject to this order are TRBs, including flange, take-up cartridge, and hanger units incorporating tapered roller bearings, and tapered roller housings (except pillow blocks) incorporating tapered rollers, with or without spindles, whether or not for automotive use. This merchandise is currently classifiable under HTS item numbers 8482.20.00.10, 8482.20.00.20. 8482.20.00.30, 8482.20.00.50, 8482.20.00.60, 8482.20.00.70, 8482.20.00.80, 8482.91.00.50, 8482.99.15.00, 8482.99.15.40, 8482.99.15.80, 8483.20.40.80, 8483.20.80.80, 8483.30.80.20, 8708.99.80.15, and 8708.99.80.80.

2. Antifriction Bearings (“AFBs”)

The AFBs (other than TRBs) covered by these orders, mounted or unmounted, and parts thereof, constitute the following three types of subject merchandise:

a. Ball Bearings and Parts Thereof: These products include all AFBs that employ balls as the roller element. Imports of these products are classified under the following categories: antifriction balls, ball bearings with integral shafts, ball bearings (including radial ball bearings) and parts thereof, and housed or mounted ball bearing units and parts thereof. Imports of these products are classified under the following Harmonized Tariff Schedule (HTS) subheadings: 3926.90.45, 4016.93.00, 4016.93.10, 4016.93.50, 6909.19.5010, 8431.20.00, 8431.39.0010, 8482.10.10, 8482.10.50, 8482.80.00, 8482.91.00, 8482.99.05,8482.99.35, 8482.99.2580, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

b. Cylindrical Roller Bearings, Mounted or Unmounted, and Parts Thereof: These products include all AFBs that employ cylindrical rollers as the rolling element. Imports of these products are classified under the following categories: antifriction rollers, all cylindrical roller bearings (including split cylindrical roller bearings) and parts thereof, housed or mounted cylindrical roller units and parts thereof.

Imports of these products are classified under the following HTS subheadings: 3926.90.45, 4016.93.00, 4016.93.10, 4016.93.50, 6909.19.5010, 8431.20.00, 8431.39.0010, 8482.40.00, 8482.50.00, 8482.80.00, 8482.91.00, 8482.99.25, 8482.99.35, 8482.99.6530, 8482.99.6560, 8482.99.70, 8483.20.40, 8483.20.80, 8483.50.8040, 8483.90.20, 8483.90.30, 8483.90.70, 8708.50.50, 8708.60.50, 8708.93.5000, 8708.99.4000, 8708.99.4960, 8708.99.50, 8708.99.8080, 8803.10.00, 8803.20.00, 8803.30.00, 8803.90.30, and 8803.90.90.

c. Spherical Plain Bearings, Mounted or Unmounted, and Parts Thereof: These products include all spherical plain bearings that employ a spherically shaped sliding element and include spherical plain rod ends. Imports of these products are classified under the following HTS subheadings: 3926.90.45, 4016.93.00, 4016.93.00, 4016.93.10, 4016.93.50, 6909.50,10, 8483.30.80, 8483.90.30, 8485.90.00, 8708.93.5000, 8708.99.50, 8803.10.00, 8803.10.00, 8803.20.00, 8803.30.00, and 8803.90.90. The HTS subheadings are provided for convenience and customs purposes. The written description of the scope of this proceeding is dispositive.

Size or precision grade of a bearing does not influence whether the bearing is covered by the AFB orders. These orders cover all the subject bearings and parts thereof (inner race, outer race, cage, rollers, balls, seals, shields, etc.) outlined above with certain limitations. With regard to finished parts, all such parts are included in the scope of these orders. For unfinished parts, such parts are included if (1) they have been heat-treated, or (2) heat treatment is not required to be performed on the part. Thus, the only unfinished parts that are not covered by these orders are those that will be subject to heat treatment after importation.

The ultimate application of a bearing also does not influence whether the bearing is covered by the orders. Bearings designed for highly specialized applications are not excluded. Any of the subject bearings, regardless of whether they may ultimately be utilized in aircraft, automobiles, or other equipment, are within the scopes of these orders.

B. Scope Determinations

The Department has issued numerous clarifications of the scope of the AFB orders. Interested parties can access all scope determinations for individual countries on the Web at www.ita.gov/sunset/ss.home.htm.

[FR Doc. 00-17513 Filed 7-10-00; 8:45 am]

BILLING CODE 3510-DS-P